DEPARTMENT OF DEFENSE

Office of the Secretary

Intent to Prepare an Environmental Impact Statement for Power Upgrades Project Within the Fort Meade Complex, MD

AGENCY: Department of Defense; National Security Agency/Central Security Service.

ACTION: Notice of intent; notice of public meeting; request for comments.

SUMMARY: The National Security Agency (NSA) announces that it intends to prepare an Environmental Impact Statement (EIS) as part of the environmental planning process for power and utility upgrades at Fort George G. Meade, Maryland (hereafter referred to as Fort Meade). The project was initiated to address aging infrastructure reliability issues as well as meet mission growth requirements. The Proposed Action includes the construction of generator facilities, two electrical substations, a boiler plant and chiller plant, as well as ancillary facilities and parking. The proposed utility upgrades would allow for 100 percent self-contained redundancy, should off site power sources fail.

Publication of this notice begins a scoping process that identifies and determines the scope of environmental issues to be addressed in the EIS. This notice requests public participation in the scoping process and provides information on how to participate.

DATES: There will be an open house at 4 p.m. followed by a scoping meeting from 5 p.m. to 7 p.m. on February 20, 2007, at the Ramada Laurel, 3400 Fort Meade Road, Laurel, Maryland 20724, which is near Fort Meade. Comments or questions regarding this EIS should be submitted by 30 days from the date of publication in the Federal Register to ensure sufficient time to consider public input in the preparation of the Draft EIS.

ADDRESSES: The open house and scoping meeting will be held at the Ramada Laurel, 3400 Fort Meade Road, Laurel, Maryland 20724. Oral and written comments will be accepted at the scoping meeting. Written comments can also be mailed to Mr. Jeffrey Williams, Environmental and Safety Services, National Security Agency, 9800 Savage Road Suite 6404, Fort Meade, MD 20755-6248 or submitted by e-mail to Mr. Williams at jdwill2@nsa.gov.

FOR FURTHER INFORMATION CONTACT: Mr. Jeffrey Williams at (301) 688-2970, or e-mail jdwill2@nsa.gov.

SUPPLEMENTARY INFORMATION: Background: The National Security Agency (NSA) is a tenant DOD agency on Fort Meade. NSA is a high-technology organization that is on the frontiers of communications and data processing. In order to meet mission growth requirements as well as address aging infrastructure reliability information, power upgrades are needed at the NSA campus on Fort Meade.

Proposed Action and Alternatives: The Power Upgrades Project, an NSA investment and major systems acquisition, was initiated to meet the growth requirements of NSA as well as address aging infrastructure reliability issues. The Proposed Action would consist of construction of the following:

—50 mega volt amp (MVA) North Electrical Substation with 15 kilo volt (kV) switchgears, a 50 mega watt (MW) generator plant with pollution control system and oil storage facilities.

—South Generator facility consisting of 36 MW generator plant.

—Replacement of four 85-90 million British Thermal Units per hour (MMBTU/hr) boilers, the boiler building, and two 200,000 aboveground oil storage tanks.

—Addition of a central chiller plant of 20,000 tons of chilled water capacity with a dedicated substation and emergency generator capacity.

—Replacement surface parking and parking garages.

—Associated ancillary equipment and utility connections.

Alternatives identified include up to five locations for the proposed construction of the North and East substation facilities on the NSA campus, two options for power generation, and various pollution control systems. These alternatives will be developed during preparation of the Draft EIS as a result of public and agency input and environmental analyses of the activities. The No Action Alternative (not undertaking the Power Upgrade Project) will also be analyzed in detail.

This notice of intent is required by 40 CFR 1508.22, and briefly describes the proposed action and possible alternatives and our proposed scoping process. The EIS will comply with the National Environmental Policy Act of 1969 (NEPA), the Council on Environmental Quality regulations in 40 CFR parts 1500-1508, and NSA Draft NEPA implementation procedures.

Significant Issues: Environmental issues to be analyzed in the EIS will include potential impacts on air quality, natural resources, water use, solid waste, cultural resources, and cumulative impacts from increased burdens to the installation and neighboring community based on projected growth.

Scoping Process: Public scoping is an early and open process for identifying and determining the scope of issues to be addressed in the EIS. Scoping begins with this notice, continues through the public comment period (see DATES), and ends when the DOD has completed the following actions:

—Invites the participation of Federal, State, and local agencies, any affected Indian tribe and other interested persons.

—Determines the actions, alternatives, and impacts described in 40 CFR 1508.25.

—Identifies and eliminates from detailed study those issues that are not significant or that have been covered elsewhere.

—Indicates any related environmental assessments or environmental impact statements that are not part of the EIS.

—Other relevant environmental review and consultation requirements.

—Indicates the relationship between timing of the environmental review and other aspects of the proposed program.

—At its discretion, exercises the options provided in 40 CFR 1501.7(b).

Once the scoping process is complete, the DoD will prepare a Draft EIS, and will publish a Federal Register notice announcing its public availability. If you want that notice to be sent to you, please contact the DoD Project Office point of contact identified in FOR FURTHER INFORMATION CONTACT. You will have an opportunity to review and comment on the Draft EIS. Additionally, the DoD anticipates holding a public meeting after publication of the DEIS in the vicinity of Fort Meade, Maryland to present the Draft EIS and receive public comments regarding the document. The DoD will consider all comments received and then prepare the Final EIS. As with the Draft EIS, the DoD will announce the availability of the Final EIS and once again give you an opportunity for review and comment.

December 21, 2007.
L.M. Bynum,
Alternate OSD Federal Register Liaison Officer, DoD.

[FR Doc. E7-25451 Filed 12-31-07; 8:45 am]

BILLING CODE 5001-06-P